DEPARTMENT OF COMMERCE

National Oceanic and Atmospheric Administration

RIN 0648-XA807

Marine Mammals and Endangered Species; File No. 16305

AGENCY: National Marine Fisheries Service (NMFS), National Oceanic and Atmospheric Administration (NOAA), Commerce.

ACTION: Notice; receipt of application.

SUMMARY: Notice is hereby given that John P. Wise, Sr., Ph.D., Wise Laboratory of Environmental and Genetic Toxicology, Maine Center for Toxicology and Environmental Health University of Southern Maine, 478 Science Building, 96 Falmouth Street Portland, MA 04104-9300, has applied in due form for a permit to receive, import, and export marine mammal and sea turtle biological samples for scientific research purposes.

DATES: Written, telefaxed, or email comments must be received on or before December 7, 2011.

ADDRESSES: The application and related documents are available for review by selecting “Records Open for Public Comment” from the Features box on the Applications and Permits for Protected Species (APPS) home page, https://apps.nmfs.noaa.gov, and then selecting File No. 16305 from the list of available applications.

These documents are also available upon written request or by appointment in the following offices: See SUPPLEMENTARY INFORMATION.

Written comments on this application should be submitted to the Chief, Permits, Conservation and Education Division, at the address listed above. Comments may also be submitted by facsimile to (301) 713-0376, or by email to NMFS.Pr1Comments@noaa.gov. Please include File No. 16305 in the subject line of the email comment.

Those individuals requesting a public hearing should submit a written request to the Chief, Permits, Conservation and Education Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The objectives of the proposed research are to receive, import, and export tissue samples from marine mammals and sea turtles under NMFS jurisdiction to: (1) Determine tissue levels of metals and other environmental contaminants; and (2) establish a resource of marine mammal and sea turtle cell lines for use as model systems in the investigation of various factors related to marine mammal health and as comparative tools to human studies (toxicity of metals, virology, etc.). When available, frozen and formalin-fixed tissues would be received from the same animals from which cell lines are derived. The applicant proposes to use frozen tissues for contaminant and DNA analysis, and formalin-fixed tissues for pathological studies.

The numbers of animals, by species, from which samples may be received, imported, or exported annually include: 270 sperm whale (Physeter macrocephalus), 30 blue whale (Balaenoptera musculus), 30 Bryde's whale (B. edeni), 30 dwarf sperm whale (Kogia sima), 30 false killer whale (Pseudorca crassidens), 30 fin whale (B. physalus), 30 gray whale (Eschrichtius robustus), 30 humpback whale (Megaptera novaeangliae), 30 killer whale (Orcinus orca), 30 minke whale (B. acutorostrata), 60 pilot whale (Globicephala spp.), 30 pygmy sperm whale (K. breviceps), 30 sei whale (B. borealis), 30 southern right whale (Eubalaena australis), 30 northern right whale (E. glacialis), 30 beaked whales (Cuvier's beaked, Ziphius cavirostris, and other beaked whales, Mesoplodon spp.), and 30 common dolphins (Delphinus delphis). In addition, samples from up to 10 animals from each of the following species may be received, imported, or exported annually: All other cetacean species, all pinnipeds (excluding walrus), and all sea turtles.

No take would be involved; tissues would be received from the following sources: Stranded animals; animals that die during rehabilitation attempts; animals that die in public display or captive research facilities; animals sampled by other permitted researchers; and animals killed during legal subsistence hunts. Once the cell lines are established, they may be transferred to other researchers for scientific research, including export to world-wide locations. The cell lines would not be sold for profit or used for commercial purposes.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd. Suite 4200, Long Beach, CA 90802-4213; phone (562) 980-4001; fax (562) 980-4018;

Pacific Islands Region, NMFS, 1601 Kapiolani Blvd. Rm. 1110, Honolulu, HI 96814-4700; phone (808) 944-2200; fax (808) 973-2941;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: November 1, 2011.
P. Michael Payne,
Chief, Permits and Conservation Division, Office of Protected Resources, National Marine Fisheries Service.

[FR Doc. 2011-28771 Filed 11-4-11; 8:45 am]

BILLING CODE 3510-22-P